DEPARTMENT OF ENERGY

National Nuclear Security Administration; National Ignition Facility

AGENCY: National Nuclear Security Administration, Department of Energy.

ACTION: Notice.

SUMMARY: On March 13, 1998, the Office of Defense Programs within the Department of Energy (“DOE” or “the Department”), issued a Supplement Analysis (SA) for the National Ignition Facility (NIF) to assist the Department in determining whether or not to prepare a Supplemental Programmatic Environmental Impact Statement for the Stockpile Stewardship and Management Program (SSM PEIS). The preparation of an SA for this purpose is provided for in DOE's regulations implementing the National Environmental Policy Act (NEPA), 10 CFR 1021.314. The SA was prepared to address certain allegations made by the plaintiffs in NRDC v. Pena, Civ. No. 97-936 (SS) (D.D.C.), a lawsuit challenging the adequacy of the SSM PEIS. The SA specifically addressed the issue of using hazardous materials in NIF experiments. In the SA the Department concluded: (1) That the only proposed use of fissile or fissionable materials in the NIF experiments is subgram quantities of uranium-238 in non-fusion yield experiments, and (2) that the impacts from using uranium-238 for this purpose are bounded by the analysis in the SSM PEIS. DOE therefore concluded that a supplement to the existing SSM PEIS was not required. However, DOE was aware that circumstances could change, and committed in the SA to prepare further NEPA analysis if the Department decides to propose experiments outside the bounds of the SSM PEIS. The SA indicated that this review would be conducted within 5 years after the SSM PEIS Record of Decision, and would be conducted in the form of an SA. The Record of Decision was issued on December 19, 1996.

DOE has reviewed the current status of planned activities for the NIF and has determined that the circumstances with regard for the proposed use of hazardous materials in NIF experiments remain unchanged from those at the time of the preparation of the 1998 SA. Therefore, the Department has concluded that there are no substantial changes or significant new circumstances or information that would justify preparing a new SA at this time. However, DOE is continuing to examine the question of use of certain materials in NIF experiments, consistent with the requirements of the court decision resolving NRDC v. Pena. Pursuant to Paragraph 6 of the District Court's Memorandum Opinion and Order, dated August 19, 1998, in NRDC v. Pena, DOE, no later than January 1, 2004, will (1) determine that experiments using materials listed in the Order will not be conducted in the NIF, or (2) prepare a Supplemental SSM PEIS analyzing the reasonably foreseeable environmental impacts of such experiments. DOE has in place a process to make that determination. However, at the present time there are no DOE proposals to use any of these materials in experiments in the NIF.

FOR FURTHER INFORMATION CONTACT: Jay Rose, Office of Defense Programs, National Nuclear Security Administration, (202) 586-5484.

Issued in Washington, DC, on January 8, 2002.
John Gordon,
Administrator.

[FR Doc. 02-936 Filed 1-14-02; 8:45 am]

BILLING CODE 6450-01-P